DEPARTMENT OF TRANSPORTATION

Federal Aviation Administration

88th Meeting: RTCA Special Committee 159, Global Positioning System (GPS)

AGENCY: Federal Aviation Administration (FAA), U.S. Department of Transportation (DOT).

ACTION: Notice of RTCA Special Committee 159, Global Positioning System (GPS).

SUMMARY: The FAA is issuing this notice to advise the public of the 88th meeting of RTCA Special Committee 159, Global Positioning System (GPS).

DATES: The meeting will be held March 13-16, 2012, from 9 a.m.-4:30 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 159. The agenda will include the following:

March 13, 2012

• All Day Working Group 2 Meeting, GPS/WAAS, MacIntosh-NBAA Room and Colson Board Room

March 14, 2012

• All Day Working Group 2 Meeting, GPS/WAAS, MacIntosh-NBAA Room and Colson Board Room

• All Day Working Group 4, Precision Landing Guidance (GPS/LAAS), A4A Room and ARINC Room

March 15, 2012

• All Day Working Group 4, Precision Landing Guidance (GPS/LAAS), Hilton-A4A Room and ARINC Room.

March 16, 2012

• Chairman's Introductory Remarks

• Approval of Summary of the 87th Meeting held November 17th, 2012, RTCA Paper No. 023-12/SC159-199

• Review Working Group (WG) Progress and Identify Issues for Resolution

• GPS/3nd Civil Frequency (WG-1)

• GPS/WAAS (WG-2)

• GPS/GLONASS (WG-2A)

• GPS/Inertial (WG-2C)

• GPS/Precision Landing Guidance (WG-4)

• GPS/Airport Surface Surveillance (WG-5)

• GPS/Interference (WG-6)

• GPS/Antennas (WG-7)

• Review of EUROCAE Activities

• LightSquared Initiative- Report/Discussion

• Assignment/Review of Future Work

• Other Business

• Date and Place of Next Meeting

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 22, 2012.
John Raper,
Manager, Business Operations Branch, Federal Aviation Administration.

[FR Doc. 2012-4698 Filed 2-27-12; 8:45 am]

BILLING CODE 4910-13-P